ENVIRONMENTAL PROTECTION AGENCY

[EPA-HQ-OECA-2013-0335; FRL-10004-04-OMS]

Information Collection Request Submitted to OMB for Review and Approval; Comment Request; NESHAP for Aerospace Manufacturing and Rework Facilities (Renewal)

AGENCY: Environmental Protection Agency (EPA).

ACTION: Notice.

SUMMARY: The Environmental Protection Agency (EPA) has submitted an information collection request (ICR), NESHAP for Aerospace Manufacturing and Rework Facilities (EPA ICR Number 1687.12, OMB Control Number 2060-0314), to the Office of Management and Budget (OMB) for review and approval in accordance with the Paperwork Reduction Act. This is a proposed extension of the ICR, which is currently approved through March 31, 2020. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 27, 2020.

ADDRESSES: Submit your comments, referencing Docket ID Number EPA-HQ-OECA-2013-0335, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed either online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Aerospace Manufacturing and Rework Facilities (40 CFR part 63, subpart GG) apply to existing and new aerospace manufacturing and rework facilities where the total hazardous air pollutants (HAP) emitted are greater than or equal to 10 tons per year of any combination of HAP, or where the total HAP emitted are greater than or equal to 25 tons per year of any combination of HAP. New facilities include those that commenced construction or reconstruction after the date of proposal. Operations covered include: Cleaning, primer and top coat application, depainting, chemical milling maskant application, handling and storage of waste, and specialty coating operations. This information is being collected to assure compliance with 40 CFR part 63, subpart GG.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Aerospace manufacturing and rework facilities.

Respondent's obligation to respond: Mandatory (40 CFR part 63 Subpart GG).

Estimated number of respondents: 144 (total).

Frequency of response: Initially, occasionally, and semiannually.

Total estimated burden: 154,000 hours (per year). Burden is defined at 5 CFR 1320.3(b).

Total estimated cost: $15,500,000 (per year), which includes $144,000 in annualized capital/startup and/or operation & maintenance costs.

Changes in the Estimates: There is no change in the burden hours or cost in this ICR compared to the hours and costs described in supporting statement for the previous ICR. This is due to two considerations. First, the regulations have had no significant changes over the past three years and are not anticipated to change over the next three years. Secondly, the growth rate for the industry is very low, negative or non-existent, so there is no significant change in the overall burden. Since there are no changes in the regulatory recordkeeping and reporting requirements and there is no significant industry growth, the labor hours and cost figures in the previous ICR are used in this ICR and there is no change in burden to industry.

Courtney Kerwin,
Director, Regulatory Support Division.

[FR Doc. 2020-01421 Filed 1-27-20; 8:45 am]

BILLING CODE 6560-50-P